DEPARTMENT OF DEFENSE

Department of the Navy

[Docket ID: USN-2019-HQ-0020]

Submission for OMB Review; Comment Request

AGENCY: The Office of the Under Secretary of the Navy, DoD.

ACTION: 30-day information collection notice.

SUMMARY: The Department of Defense has submitted to OMB for clearance the following proposal for collection of information under the provisions of the Paperwork Reduction Act.

DATES: Consideration will be given to all comments received by January 10, 2020.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: NAF Retail Point of Sale System (RPOS), OMB Control Number 0703-XXXX.

Type of Request: New.

Number of Respondents: 294,953.

Responses per Respondent: 1 to 2 (depending on transaction type).

Annual Responses: 366,365.

Average Burden per Response: 1 to 10 minutes (depending on transaction type).

Annual Burden Hours: 12,109.

Needs and Uses: This information system will provide a means to manage and administer a robust Marine Corps Community Services (MCCS) retail point of sales system to control sales and capture and process customer orders and transactions for the Marine Corps Exchanges, package stores, Marine Marts, and Uniform Shops. The information collection requirement is necessary to manage and administer special orders, rain checks, send sales, returns and exchanges, check cashing, tender by check, and recruit tenders. All information is collected verbally at the point-of-sale terminal and entered into the NAF RPOS by an MCCS employee.

Affected Public: Individuals or households.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: December 6, 2019.
Aaron T. Siegel,
Alternate OSD Federal Register, Liaison Officer, Department of Defense.

[FR Doc. 2019-26684 Filed 12-10-19; 8:45 am]

BILLING CODE 3810-FF-P